DEPARTMENT OF TRANSPORTATION

Surface Transportation Board

[STB Finance Docket No. 34526]

Union Pacific Railroad Company—Trackage Rights Exemption—The Burlington Northern and Santa Fe Railway Company

The Burlington Northern and Santa Fe Railway Company (BNSF) has agreed to a modified trackage rights agreement governing Union Pacific Railroad Company's (UP) ¹ overhead trackage rights over a BNSF line of railroad between BNSF milepost 1406.3 near Dover, ID, and BNSF milepost 1402.41 near Sandpoint, ID, including to ES 49+88.2, a total distance of approximately 5.24 miles.² The modified agreement will change the compensation and maintenance terms of an existing 1992 Agreement.

¹ UP submitted, as Exhibit 2 to the notice of exemption, a draft agreement. On August 5, 2004, UP filed a copy of the final agreement, dated July 30, 2004, as executed by the parties.

² The trackage rights were originally exempted in Union Pacific Railroad Company and Burlington Northern Railroad Company—Joint Relocation Project Exemption, Finance Docket No. 32081 (ICC served July 2, 1992).

The transaction was scheduled to be consummated on July 30, 2004.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34526, must be filed with the Surface Transportation Board, 1925 K Street, NW., Washington, DC 20423-0001. In addition, a copy of each pleading must be served on Robert T. Opal, General Commerce Counsel, 1400 Douglas Street, Stop 1580, Omaha, NE 68179.

Board decisions and notices are available on our Web site at http://www.stb.dot.gov.

Decided: August 6, 2004.
By the Board, David M. Konschnik, Director, Office of Proceedings.
Vernon A. Williams,
Secretary.

[FR Doc. 04-18447 Filed 8-11-04; 8:45 am]

BILLING CODE 4915-01-P